DEPARTMENT OF STATE

[Public Notice: 10215]

Notice of Preparation and Request for Input for the United States-Chile Environmental Cooperation Agreement Work Program

ACTION: Notice of preparation of the 2018-2020 United States-Chile Environmental Cooperation Agreement Work Program and request for comments.

SUMMARY: The U.S. Department of State is providing notice that the United States and Chile intend to establish a 2018-2020 Work Program pursuant to the United States-Chile Environmental Cooperation Agreement (ECA). The Department of State invites the public, including nongovernmental organizations, academic institutions, private sector enterprises, and other interested persons to submit written comments or suggestions regarding items for inclusion in a new Work Program for implementing the United States-Chile ECA, which entered into force in 2004.

DATES: To be assured of timely consideration, all comments or questions are requested by December 6, 2017.

ADDRESSES: If you have access to the Internet, you can view and comment on this notice by going to http://www.regulations.gov and entering [DOS-2017-0043] or the title of this Notice into the search field and following the prompts.

FOR FURTHER INFORMATION CONTACT: All comments or inputs should be directed to Keri Holland, U.S. Department of State, Bureau of Oceans and International Environmental and Scientific Affairs, Office of Environmental Quality and Transboundary Issues by email at HollandKJ@state.gov with the subject line “UNITED STATES-CHILE Work Program” or by fax to (202) 647-5947 or by phone at (202) 647-6777.

SUPPLEMENTARY INFORMATION: The United States and Chile negotiated the United States-Chile FTA and United States-Chile ECA in concert, signing the FTA on June 6, 2003 in Miami, U.S.A. and the ECA on June 17, 2003 in Santiago, Chile. Article 19.3 of the FTA establishes an Environment Affairs Council (Council). The Joint Commission on Environmental Cooperation (Commission) was established in Article II of the ECA. The Council and Commission last met in August 2015 in Washington, DC. The Council reviewed the implementation of the Environment Chapter of the FTA. The Commission signed the 2015-2017 Work Program, which built on previous successes and identified activities to achieve the long-term goals of: (1) Strengthening effective implementation and enforcement of environmental laws and regulations; (2) encouraging development and adoption of sound environmental practices and technologies, particularly in business enterprises; (3) promoting sustainable development and management of environmental resources, including wild fauna and flora, protected wild areas, and other ecologically important ecosystems; and (4) encouraging civil society participation in the environmental decision-making process and environmental education.

We encourage submitters to refer to: (1) The United States-Chile Free Trade Agreement (FTA) Environment Chapter; (2) the United States-Chile ECA; and (3) the United States-Chile 2015-2017 ECA Work Program. Documents are available at:

• Chapter 19 of the United States-Chile FTA, https://ustr.gov/sites/default/files/uploads/agreements/fta/chile/asset_upload_file482_4013.pdf.

• United States-Chile ECA and the 2015-2017 Work Program, https://www.state.gov/e/oes/eqt/trade/chile/index.htm.

These and other useful documents are available at: https://ustr.gov/trade-agreements/free-trade-agreements/chile-fta and at https://www.state.gov/e/oes/eqt/trade/chile/index.htm.

Carol Volk,
Acting Director, Office of Environmental Quality and Transboundary Issues, Department of State.

[FR Doc. 2017-25681 Filed 11-27-17; 8:45 am]

BILLING CODE 4710-09-P